DEPARTMENT OF TRANSPORTATION

Coast Guard

[USCG-2001-10675]

National Boating Safety Advisory Council

AGENCY: Coast Guard, DOT.

ACTION: Notice of meetings.

SUMMARY: The National Boating Safety Advisory Council (NBSAC) and its subcommittees on boat occupant protection and prevention through people will meet to discuss various issues relating to recreational boating safety. All meetings will be open to the public.

DATES: NBSAC will meet on Monday, October 29, 2001, from 8:30 a.m. to 5 p.m. and Tuesday, October 30 from 8:30 a.m. to noon. The Prevention Through People Subcommittee will meet on Saturday, October 27, 2001, from 1:30 p.m. to 4:30 p.m. The Boat Occupant Protection Subcommittee will meet on Sunday, October 28, 2001, from 9 a.m. to noon. These meetings may close early if all business is finished. Written material and requests to make oral presentations should reach the Coast Guard on or before October 12, 2001. Requests to have a copy of your material distributed to each member of the committee or subcommittees should reach the Coast Guard on or before October 5, 2001.

ADDRESSES: NBSAC will meet at the Boston Marriott Quincy, 1000 Marriott Drive, Quincy, Massachusetts. The subcommittee meetings will be held at the same address. Send written material and requests to make oral presentations to Mr. Albert J. Marmo, Commandant (G-OPB-1), U.S. Coast Guard Headquarters, 2100 Second Street SW., Washington, DC 20593-0001. You may obtain a copy of this notice by calling the U.S. Coast Guard Infoline at 1-800-368-5647. This notice is available on the Internet at http://dms.dot.gov or at the Web Site for the Office of Boating Safety at URL address www.uscgboating.org.

FOR FURTHER INFORMATION CONTACT: Albert J. Marmo, Executive Director of NBSAC, telephone 202-267-0950, fax 202-267-4285.

SUPPLEMENTARY INFORMATION: Notice of these meetings is given under the Federal Advisory Committee Act, 5 U.S.C. App. 2.

Agendas of Meetings

National Boating Safety Advisory Council (NBSAC). The agenda includes the following:

(1) Executive Director's report.

(2) Chairman's session.

(3) Prevention Through People Subcommittee report.

(4) Boat Occupant Protection Subcommittee report.

(5) Recreational Boating Safety Program report.

(6) Coast Guard Auxiliary report.

(7) Canadian Coast Guard report.

(8) National Association of State Boating Law Administrators Report.

(9) Report on boating safety education in Quincy, Massachusetts public schools.

(10) Discussion on boating under the influence enforcement.

(11) Discussion on waterways management issues associated with high speed recreational vessels.

(12) Discussion on houseboat carbon monoxide issues.

(13) Discussion on proposed rulemaking on wearing of personal flotation devices by children under 13 years of age. (A summary of public comments received in response to the notice of proposed rulemaking will be provided at the NBSAC meeting and will also be available in the docket for this rulemaking [USCG-2000-8589] along with a summary of NBSAC discussion.)

(14) Report on boating injury data capture in hospital emergency departments grant project.

(15) Update on personal flotation device issues.

(16) Update on the boat factory visit program.

Prevention Through People Subcommittee. The agenda includes the following:

(1) Discuss canoe, kayak and other human-powered craft safety issues.

(2) Discuss partnering with retailers to get boating safety information to boat owners and operators.

(3) Discuss status of mandatory education.

(4) Update on navigation light projects, rulemaking and other issues.

(5) Update on current regulatory projects, grants and contracts dealing with personal flotation devices.

(6) Update on “Operation BoatSmart” and other boating safety outreach initiatives.

Boat Occupant Protection Subcommittee. The agenda includes the following:

(1) Discuss weight and horsepower compliance issues related to 4-stroke engines.

(2) Discuss industry standard warning label for boats.

(3) Discuss comparative safety of certified boats.

(4) Update on current regulatory projects, grants and contracts impacting boat occupant protection.

Procedural

All meetings are open to the public. Please note that the meetings may close early if all business is finished. At the Chairs' discretion, members of the public may make oral presentations during the meetings. If you would like to make an oral presentation at a meeting, please notify the Executive Director no later than October 12, 2001. Written material for distribution at a meeting should reach the Coast Guard no later than October 12, 2001. If you would like a copy of your material distributed to each member of the committee or subcommittee in advance of a meeting, please submit 25 copies to the Executive Director no later than October 5, 2001.

Information on Services for Individuals With Disabilities

For information on facilities or services for individuals with disabilities or to request special assistance at the meetings, contact the Executive Director as soon as possible.

Dated: September 20, 2001.
Kenneth T. Venuto,
Rear Admiral, U.S. Coast Guard, Director of Operations Policy.

[FR Doc. 01-24235 Filed 9-26-01; 8:45 am]

BILLING CODE 4910-15-P